DEPARTMENT OF AGRICULTURE

Forest Service

New Mexico Collaborative Forest Restoration Program Technical Advisory Panel

AGENCY: Forest Service, USDA.

ACTION: Notice of meeting.

SUMMARY: The New Mexico Collaborative Forest Restoration Program Technical Advisory Panel will meet in Albuquerque, New Mexico. The purpose of the meeting is to provide recommendations to the Regional Forester, USDA Forest Service Southwestern Region, on which forest restoration grant proposals submitted in response to the Collaborative Forest Restoration Program Request For Proposals best meet the objectives of the Community Forest Restoration Act (Title VI, Pub. L. No. 106-393).

DATES: The meeting will be held May 19-23, 2003, beginning at 1 p.m. on Monday, May 19 and ending at approximately 4 p.m. on Friday, May 23.

ADDRESSES: The meeting will be held at the Wyndham Albuquerque Hotel, 2910 Yale SE, Albuquerque, NM 87106, telephone (505) 244-8554. Written comments should be sent to Walter Dunn, at Cooperative and International Forestry Staff, USDA Forest Service, 333 Broadway SE, Albuquerque, NM 87102. Comments may also be sent via e-mail to wdunn@fs.fed.us, or via facsimile to Walter Dunn at (505) 842-3165.

All comments, including names and addresses when provided, are placed in the record and are available for public inspection and copying. The public may inspect comments received at the Cooperative and International Forestry Staff, USDA Forest Service, 333 Broadway SE, Albuquerque, or during the Panel meeting at the Wyndham Albuquerque Hotel, 2910 Yale SE, Albuquerque, NM. Visitors are encouraged to call ahead to the Wyndham Albuquerque Hotel, 2910 Yale SE, Albuquerque, NM 87106, telephone (505) 244-8554 to facilitate entry into the building.

FOR FURTHER INFORMATION CONTACT: Walter Dunn, Designated Federal Official, at (505) 842-3425, or Angela Sandoval, at (505) 842-3289, Cooperative and International Forestry Staff, USDA Forest Service, 333 Broadway SE, Albuquerque, NM 87102.

Individuals who use telecommunication devices for the deaf (TDD) may call the Federal Information Relay Service (FIRS) at 1-800-877-8339 between 8 a.m. and 8 p.m., Eastern Standard Time, Monday through Friday.

SUPPLEMENTARY INFORMATION: The meeting is open to the public. Council discussion is limited to the Forest Service staff and Council members. However, persons who wish to bring Collaborative Forest Restoration Program Grant Review matters to the attention of the Council may file written statements with the Council staff before or after the meeting. Public input sessions will be provided and individuals who made written requests by May 19, 2003 will have the opportunity to address the Council at those sessions.

Dated: April 10, 2003.
Abel M. Camarena,
Deputy Regional Forester.

[FR Doc. 03-9419 Filed 4-16-03; 8:45 am]

BILLING CODE 3410-11-M